NATIONAL SCIENCE FOUNDATION

Advisory Panel for Cell Biology: Notice of Meeting

In accordance with the Federal Advisory Committee Act (Pub. L. 92-463, as amended), the National Science Foundation announces the following meeting:

Name: Advisory Panel for Cell Biology— (1136) (Panel B).

Date/Time: April 26-28, 2000, 8:30 a.m.-6:00 p.m.

Place: National Science Foundation, Room 120, 4201 Wilson Boulevard, Arlington, VA 22230.

Type of Meeting: Closed.

Contact Persons: Eve Barak and Randolph Addison, Program Directors, Cell Biology, National Science Foundation, Room 655, 4201 Wilson Boulevard, Arlington, VA 22230. (703) 306-1442.

Purpose of Meeting: To provide advice and recommendations concerning proposals submitted to the NSF for financial support.

Agenda: To review and evaluate research proposals submitted to the Cellular Organization Program as part of the selection process for awards.

Reason for Closing: The proposals being reviewed include information of a proprietary or confidential nature, including technical information, financial data such as salaries, and personal information concerning individuals associated with the proposals. These matters are exempt under 5 U.S.C. 552b(c) (4) and (6) of the Government in the Sunshine Act.

Dated: February 23, 2000.
Karen J. York,
Committee Management Officer.

[FR Doc. 00-4710 Filed 2-28-00; 8:45 am]

BILLING CODE 7555-01-M